DEPARTMENT OF TRANSPORTATION

Federal Aviation Administration

Notice of Request to Release Airport Property; New Century AirCenter (IXD), New Century, Kansas

AGENCY: Federal Aviation Administration (FAA), DOT.

ACTION: Notice of intent to rule on request to release airport property for land disposal.

SUMMARY: The FAA proposes to rule and invites public comment on the release and disposal of one parcel of land at the New Century AirCenter (IXD), New Century, Kansas.

DATES: Comments must be received on or before February 18, 2025.

ADDRESSES: Comments on this application may be mailed or delivered to the FAA at the following address: Amy J. Walter, Airports Land Specialist, Federal Aviation Administration, Airports Division, ACE-620G, 901 Locust, Room 364, Kansas City, MO 64106.

In addition, one copy of any comments submitted to the FAA must be mailed or delivered to: Lawrence Peet, Deputy Director, Johnson County Airport Commission, One New Century Parkway, New Century, KS 66031, (913) 715-6005.

FOR FURTHER INFORMATION CONTACT: Amy J. Walter, Airports Land Specialist, Federal Aviation Administration, Airports Division, ACE-620G, 901 Locust, Room 364, Kansas City, MO 64106, (816) 329-2603, amy.walter@faa.gov.

The request to release property may be reviewed, by appointment, in person at this same location.

SUPPLEMENTARY INFORMATION: The FAA invites public comment on the request to release approximately 37.21-acres of airport property at the New Century AirCenter (IXD) under the provisions of 49 U.S.C. 47107(h)(2). The Deputy Director has requested from the FAA a 37.21-acre parcel of airport property be released from obligations and sold. The FAA determined the request to release and sell this property at the New Century AirCenter (IXD) submitted by the Sponsor meets the procedural requirements of the Federal Aviation Administration and the release and sale of the property does not and will not impact future aviation needs at the airport. The FAA may approve the request, in whole or in part, no sooner than thirty days after the publication of this Notice.

The following is a brief overview of the request:

New Century AirCenter (IXD) is proposing the release and sale of a 37.21-acre parcel of airport property. The release of land is necessary to comply with Federal Aviation Administration Grant Assurances that do not allow federally acquired airport property to be used for non-aviation purposes. The sale of the subject property will result in the release of land and surface rights at the New Century AirCenter (IXD) from the conditions of the AIP Grant Agreement Grant Assurances. In accordance with 49 U.S.C. 47107(c)(2)(B)(i) and (iii), the airport will receive fair market value when the parcel is sold.

Any person may inspect, by appointment, the request in person at the FAA office listed above under FOR FURTHER INFORMATION CONTACT. In addition, any person may, request an appointment and inspect the application, notice and other documents determined by the FAA to be related to the application in person at the New Century AirCenter.

Issued in Kansas City, MO on January 13, 2025.
Rodney N. Joel,
Director, FAA Central Region, Airports Division.

[FR Doc. 2025-01086 Filed 1-16-25; 8:45 am]

BILLING CODE 4910-13-P